DEPARTMENT OF TRANSPORTATION

National Highway Traffic Safety Administration

[U.S. DOT Docket No. NHTSA-2007-27523]

Reports, Forms, and Recordkeeping Requirements Agency Information Collection Activity Under OMB Review

AGENCY: National Highway Traffic Safety Administration (NHTSA), Department of Transportation (DOT).

ACTION: Notice.

SUMMARY: In compliance with the Paperwork Reduction Act of 1995 (44 U.S.C. 3501 et seq.), this notice announces that the Information Collection Request (ICR) below has been forwarded to the Office of Management and Budget (OMB) for review and comment. The ICR describes the nature of the information collection and the expected burden. The Federal Register Notice with a 60-day comment period was published on March 14, 2007 (72 FR 11931-11932).

DATES: Comments must be received on or before October 1, 2007.

ADDRESSES: Direct all written comments to U.S. Department of Transportation Dockets, 1200 New Jersey Avenue, SE., W12-140, Washington, DC 20590. Docket No. NHTSA-2007-27523.

FOR FURTHER INFORMATION CONTACT: Ms. Laurie Flaherty, Program Analyst, Office of Emergency Medical Services, National Highway Traffic Safety Administration, 1200 New Jersey Avenue, SE., NTI-140, W44-322, Washington, DC 20590, (202) 366-2705 or via e-mail at laurie.flaherty@dot.gov.

SUPPLEMENTARY INFORMATION:

National Highway Traffic Safety Administration

Title: Request for Information, National E9-1-1 Implementation Coordination Office.

OMB Number: 2127—New.

Type of Request: New information collection request.

Supporting Statement for Paperwork Reduction Act Submissions

A. Justification

1. Explain the circumstances that make the collection of information necessary.

The ENHANCE 911 Act of 2004 requires the establishment of a National E911 Implementation Coordination Office (National 9-1-1 Office), as a joint effort between the National Highway Traffic Safety Administration (NHTSA) and the National Telecommunications and Information Administration (NTIA). It delineates the responsibilities of the office to include a joint program to facilitate coordination and communication between Federal, State, and local emergency communications systems, emergency personnel, public safety organizations, telecommunications carriers, and telecommunications equipment manufacturers and vendors involved in the implementation of E-911 services.

The NHTSA and NTIA intend to use the National 9-1-1 Office to work cooperatively with public and private 9-1-1 stakeholders to establish a vision for the future of 9-1-1 services in the Nation. The 9-1-1 constituency is a diverse group of entities, including:

Government Agencies:

• Local, State and Federal policy, regulation, and funding agencies.

• Local and State emergency communications agencies.

• Local, State and Federal emergency response agencies.

Non-Governmental Organizations:

• Professional and industry associations.

• Standards Development Organizations.

• Citizen and special interest advocacy organizations.

• Private emergency response and recovery organizations.

• Research and academic organizations.

IT/Telecommunications Service Providers:

• “Traditional” telecommunication service providers.

• “Public Safety/emergency” service providers.

• “Other” IT/telecommunication application service providers.

• IP-network access infrastructure/service providers.

IT/Telecommunications Equipment Providers:

• Equipment and support service suppliers to “traditional” telecommunication companies.

• Equipment and support service suppliers to IT network providers.

• “Public Safety/emergency services network” equipment providers.

• Personal communication device providers.

• Third party service providers such as telematics, poison control, medical alert, central alarm monitoring, relay services, and N-1-1 services e.g., 4-1-1, 5-1-1).

In order to collect information needed to develop and implement effective strategies that meet the National 9-1-1 Office's mandate to provide leadership, coordination, guidance and direction to the enhancement of the Nation's 9-1-1 services, NHTSA, in cooperation with NTIA, must utilize efficient and effective means of eliciting the input and opinions of its constituency groups. The proposed annual RFIs would assist the National 9-1-1 Office in addressing the myriad of issues posed by implementing new technologies in 9-1-1 services in a systematic, prioritized fashion, with active involvement of its constituency in this process.

2. Indicate how, by whom, and for what purpose the information is to be used.

The results of the proposed annual RFIs would be used by staff of the National 9-1-1 Office to: (1) Identify areas to target programs and activities to achieve the greatest benefit; (2) develop programs and initiatives aimed at cooperative efforts to Enhance 9-1-1 services nationwide; and (3) to provide informational support to States, regions, and localities in their own efforts to Enhance 9-1-1 services. The survey will answer questions and address issues raised by staff of the National 9-1-1 Office.

The results of the proposed annual RFIs would provide a status report on constituent attitudes, knowledge, opinions, and advice related to the activities undertaken by the National 9-1-1 Office. The results would be studied to determine appropriate emphases for future activities. The results would also be disseminated to others for use in their program development activities. If the RFI were not conducted, the National 9-1-1 Office would lack sufficient direction due to inadequate information upon which to base program decisions, and limiting the effectiveness of the office in reaching the goals established by Congress.

3. Describe whether, and to what extent, the collection of information involves the use of technological collection techniques or other forms of information technology.

Collection of information will be accomplished through the electronic submission of comments and responses to specific questions and soliciting comments on the priorities and strategies used by the National 9-1-1 Office to accomplish its agreed functions, goals and vision. Since the information solicited is almost exclusively qualitative in nature, analysis and aggregation of information would not be done using technological analysis techniques.

4. Describe efforts to identify duplication. Show specifically why any similar information already available cannot be used.

The National 9-1-1 Office is the Federal entity established specifically to facilitate coordination and communication between Federal, State, and local emergency communications systems, emergency personnel, public safety organizations, telecommunications carriers, and telecommunications equipment manufacturers and vendors involved in the implementation of E9-1-1 services. While the Federal Communications Commission (FCC) does have jurisdiction over private sector entities such as telecommunications carriers, the National 9-1-1 Office is responsible for coordinating efforts among both private and public entities at the Federal, State and local levels. While the data collected by the FCC are useful, these limited excursions into issues related to 9-1-1 services do not provide sufficient information to meet the needs of the National 9-1-1 Office for programmatic decision making, and facilitating coordination and communication among the numerous and disparate entities involved in providing and supporting 9-1-1 services.

Overall, the following criteria were applied to determine whether existing information may be duplicative:

• Currency of information—the data must be current in order to have utility for making sound strategic decisions regarding future programmatic activity.

• National basis—The efforts of the National 9-1-1 Office are national in scope. The National 9-1-1 Office therefore requires national-level data for its planning. Data derived from limited constituencies are also unsuitable because the data are representative of only a small portion of the constituency.

• Focus on program concerns—the items within the proposed RFI concern issues crucial to developing appropriate strategies for improving the Nation's 9-1-1 services.

5. If the collection of information impacts small businesses or other small entities, describe methods used to minimize burden.

The collection of information from all respondents has been minimized by the limiting the RFI contents to a number of questions that would require an average of one hour to complete.

6. Describe the consequence to Federal program or policy activities if the collection is not conducted or is conducted less frequently.

The information is necessary for the National 9-1-1 Office to be able to make strategic planning decisions in program areas on an informed basis. This is particularly important with the priority assigned to 9-1-1 services by Congress and the Administration. In addition, the technology impacting 9-1-1 services has changed substantially in recent years. Both public and private sectors have increasingly focused on addressing the need to enhance the technology utilized by 9-1-1 services across the nation. Without up-to-date information, the National 9-1-1 Office will not be able to adequately address new opportunities to promote advanced technology for 9-1-1 services, or identify emerging obstacles.

7. Explain any special circumstances that would cause the information collection to be conducted in a manner inconsistent with the guidelines set forth in 5 CFR 1320.6.

No special circumstances require the collection of information to be conducted in a manner inconsistent with the guidelines in 5 CFR 1320.6.

8. Provide a copy and identify the date and page number of the publication in the Federal Register of the agency's notice, required by 5 CFR 1320.8(d), soliciting comments on the information collection prior to submission to OMB. Summarize the public comments received in response to that notice and describe actions to consult with persons outside the agency to obtain their views.

Federal Register Notice: A copy of the Federal Register Notice is provided in Appendix A. The Notice appeared in the Federal Register, Volume 72, Number 49, pages 11931-11932, March 14, 2007. The closing date for comments was May 14, 2007. No comments were received.

9. Explain any decision to provide any payment or gift to respondents, other than remuneration of contractors or grantees.

No payments or gifts will be offered to the respondents participating in the annual RFI process.

10. Describe any assurance of confidentiality provided to respondents.

No assurances of confidentiality are given by the agency. There is no requirement that information be sent to the agency. All information submitted by respondents is done so on a voluntary basis and is intended for inclusion in a public document.

11. Provide additional justification for questions of a sensitive nature.

The RFI process will not contain any questions related to matters that are commonly considered sensitive or private.

12. Provide estimates of the hour burden of the collection of information on the respondents.

The NHTSA estimates that responses to the questions included in the proposed RFIs would require an average of one hour to complete. Estimating the number of respondents at 50, this would result in a total burden of 50 hours.

13. Provide an estimate of the total annual cost burden to respondents or record keepers resulting from the collection of information.

There are no record keeping or reporting costs to respondents. Each respondent only participates once in the information collection process. Thus there is no preparation of data required or expected of respondents. Respondents do not incur: (a) Capital or start up costs, (b) operation, maintenance or purchase costs, as a result of participating in the RFI process.

14. Provide estimates of annualized cost to the Federal government.

Total estimated cost to the government for conducting the RFI is as follows:

Contractor costs associated with analysis and report: $18,000. This estimate is based on the total cost for contractor supported analysis and report of information obtained in the RFI process, including 120 fully loaded hours at $150 per hour.

15. Explain the reasons for any program changes or adjustments reported in Items 13 or 14 of the OMB form 83-1.

Since this is a new request, there are no program changes or adjustments to report in Items 13 or 14 of the OMB form 83-1.

16. For collections of information whose results will be published, outline plans for tabulation and publication.

The NHTSA plans to complete a status report based on the results of the RFI, of constituent attitudes, knowledge, opinions, and advice related to the activities undertaken by the National 9-1-1 Office. This report would also be made available to public and private entities, upon request, for use in their program development activities.

17. If seeking approval to not display the expiration date for OMB approval of the information collection, explain the reasons that display would be inappropriate.

Approval is not sought to not display the expiration date.

18. Explain each exception to the certification statement identified in Item 19, Certification for Paperwork Reduction Act Submissions,” of OMB Form 83-1.

No exceptions to the certification statement are made.

B. Collections of Information Employing Statistical Methods

The proposed RFI will not employ statistical methods to analyze the information collected from respondents.

Comments are invited on: Whether the proposed collection of information is necessary for the performance of the functions of the National E9-1-1 Implementation Coordination Office, including whether the information will have practical utility; the accuracy of the Department's estimate of the burden of the proposed information collection; ways to enhance the quality, utility and clarity of the information to be collected; and ways to minimize the burden of the collection of information on respondents, including the use of automated collection techniques or other forms of information technology. A comment to OMB is most effective if OMB received it within 30 days of publication.

(Authority: 44 U.S.C. 3506(c)(2)(A); 47 U.S.C. 942)

Issued on: August 24, 2007.
Marilena Amoni,
Associate Administrator, Research and Program Development.

[FR Doc. E7-17144 Filed 9-4-07; 8:45 am]

BILLING CODE 4910-59-P